DEPARTMENT OF COMMERCE

International Trade Administration

[A-552-801]

Certain Frozen Fish Fillets From the Socialist Republic of Vietnam: Initiation of New Shipper Reviews

AGENCY: Import Administration, International Trade Administration, Department of Commerce.

DATES: Effective Date: October 3, 2011.

SUMMARY: The Department of Commerce (“Department”) has determined that the three requests for new shipper reviews of the antidumping duty order on certain frozen fish fillets from the Socialist Republic of Vietnam, received between August 3, 2011 and August 16, 2011 meet the statutory and regulatory requirements for initiation. The period of review (“POR”) of these new shipper reviews is August 1, 2010-July 31, 2011.

FOR FURTHER INFORMATION CONTACT: Jamie Blair-Walker, AD/CVD Operations, Office 9, Import Administration, International Trade Administration, U.S. Department of Commerce, 14th Street and Constitution Avenue, NW., Washington, DC 20230; telephone: (202) 482-2615.

SUPPLEMENTARY INFORMATION:

Background

The antidumping duty order on certain frozen fish fillets from the Socialist Republic of Vietnam was published in the Federal Register on August 12, 2003. See Notice of Antidumping Duty Order: Certain Frozen Fish Fillets From the Socialist Republic of Vietnam, 68 FR 47909 (August 12, 2003). On August 3, 4, and 16, 2011, respectively, we received a timely request for a new shipper review from An Phu Seafood Corporation (“An Phu”), GODACO Seafood Joint Stock Company (“GODACO”), and DOCIFISH Corporation (“DOCIFISH”). All three new shipper requests were filed in accordance with 19 CFR 351.214(c) and 351.214(d)(1). On August 25, 2011, An Phu responded to the Department's August 19, 2011, supplemental questionnaire. The questionnaire and corresponding response concerned the need for clarification regarding certain information observed in data obtained by the Department from U.S. Customs and Border Protection (“CBP”). The Department found no issue with the response given by An Phu. An Phu, GODACO, and DOCIFISH have certified that they are both the producers and exporters of the subject merchandise upon which the requests for the new shipper review are based.

Initiation of New Shipper Reviews

Pursuant to section 751(a)(2)(B)(i)(I) of the Tariff Act of 1930, as amended (“Act”), and 19 CFR 351.214(b)(2), An Phu, GODACO, and DOCIFISH certified that they did not export certain frozen fish fillets to the United States during the period of investigation (“POI”). Pursuant to section 751(a)(2)(B)(i)(II) of the Act and 19 CFR 351.214(b)(2)(iii)(A), An Phu, GODACO, and DOCIFISH certified that, since the initiation of the less-than-fair-value investigation, they have never been affiliated with any exporter or producer who exported certain frozen fish fillets to the United States during the POI, including those not individually examined during the less-than-fair-value investigation. As required by 19 CFR 351.214(b)(2)(iii)(B), An Phu, GODACO, and DOCIFISH have also certified that their export activities are not controlled by the central government of Vietnam.

In addition to the certifications described above, An Phu, GODACO, and DOCIFISH submitted documentation establishing the following: (1) The date on which the company first shipped certain frozen fish fillets for export to the United States and the date on which the certain frozen fish fillets first entered, or withdrawn from warehouse, for consumption; (2) the volume of the company's first shipment; and (3) the date of the company's first sales to an unaffiliated customer in the United States.

Pursuant to section 751(a)(2)(B) of the Act and 19 CFR 351.214(d)(1), we are initiating these new shipper reviews for shipments of certain frozen fish fillets from Vietnam produced and exported by An Phu, GODACO, and DOCIFISH.

We intend to issue preliminary results of this review no later than 180 days from the date of initiation, and final results of these reviews no later than 270 days from the date of initiation. See section 751(a)(2)(B)(iv) of the Act.

We will instruct CBP to allow, at the option of the importer, the posting, until the completion of the review, of a bond or security in lieu of a cash deposit for each entry of the subject merchandise from An Phu, GODACO, or DOCIFISH in accordance with section 751(a)(2)(B)(iii) of the Act and 19 CFR 351.214(e). Because An Phu, GODACO, and DOCIFISH certified that they have both produced and exported the subject merchandise, the sales of which are the bases for these new shipper review requests, we will apply the bonding privilege to these three companies only for subject merchandise which the respondents both produced and exported.

This initiation notice serves as notification to the three companies that upon initiation of this new shipper review, the Department will require An Phu, GODACO, and DOCIFISH to submit on an ongoing basis complete transaction information concerning any sales of subject merchandise to the United States that were made subsequent to the period of review in order to assist in its analysis of the bona fides of the sales of the three companies.

Interested parties requiring access to proprietary information in these new shipper reviews should submit applications for disclosure under administrative protective order in accordance with 19 CFR 351.305 and 351.306. This initiation and notice are in accordance with section 751(a)(2)(B) of the Act and 19 CFR 351.214 and 351.221(c)(1)(i).

Dated: September 26, 2011.
Gary Taverman,
Acting Deputy Assistant Secretary for Antidumping and Countervailing Duty Operations.

[FR Doc. 2011-25426 Filed 9-30-11; 8:45 am]

BILLING CODE 3510-DS-P